DEPARTMENT OF COMMERCE

National Oceanic and Atmospheric Administration

50 CFR Part 679

[Docket No. 010112013-1013-01; I.D. 043001B]

Fisheries of the Exclusive Economic Zone Off Alaska; Groundfish Fisheries by Vessels Using Hook-and-Line Gear in the Gulf of Alaska

AGENCY: National Marine Fisheries Service (NMFS), National Oceanic and Atmospheric Administration (NOAA), Commerce.

ACTION: Closure.

SUMMARY: NMFS is prohibiting directed fishing for groundfish by vessels using hook-and-line gear in the Gulf of Alaska (GOA), except for sablefish or demersal shelf rockfish in the Southeast Outside District. This action is necessary because the second seasonal bycatch mortality allowance of Pacific halibut apportioned to hook-and-line gear targeting groundfish other than sablefish and demersal shelf rockfish in the Southeast Outside District has been reached.

DATES: Effective 1200 hrs, Alaska local time (A.l.t.), May 17, 2001, until 1200 hrs, A.l.t., August 31, 2001.

FOR FURTHER INFORMATION CONTACT: Mary Furuness, 907-586-7228

SUPPLEMENTARY INFORMATION: NMFS manages the groundfish fishery in the GOA exclusive economic zone according to the Fishery Management Plan for Groundfish of the Gulf of Alaska (FMP), as prepared by the North Pacific Fishery Management Council under authority of the Magnuson-Stevens Fishery Conservation and Management Act. Regulations governing fishing by U.S. vessels in accordance with the FMP appear at subpart H of 50 CFR part 600 and 50 CFR part 679.

The Pacific halibut bycatch mortality allowance for groundfish included in the other hook-and-line fishery, which is defined at § 679.21(d)(4)(iii)(C), was established by the Final 2001 Harvest Specifications and Associated Management Measures for the Groundfish Fisheries Off Alaska (66 FR 7276, January 22, 2001) and subsequent adjustment (66 FR 17087, March 29, 2001) for the second season, the period May 17, 2001, through August 31, 2001, as 0 metric tons (mt). Under 50 CFR 679.21(d)(5), 30 mt of the Pacific halibut hook-and-line prohibited species catch (PSC) limit was moved from the May 17 through August 31 seasonal allowance to the January 1 through May 17 seasonal allowance in order to accommodate new Pacific cod seasons implemented under an emergency rule (66 FR 7276, January 22, 2001) and to optimize the harvest of Pacific cod.

The other hook-and-line fishery includes all groundfish except sablefish in the GOA and demersal shelf rockfish in the Southeast Outside District.

In accordance with § 679.21(d)(7)(ii), NMFS is prohibiting directed fishing for groundfish other than sablefish in the GOA or demersal shelf rockfish in the Southeast Outside District by vessels using hook-and-line gear.

Maximum retainable bycatch amounts may be found in the regulations at § 679.20(e) and (f).

Classification

This action responds to the best available information recently obtained from the fishery. The Assistant Administrator for Fisheries, NOAA, finds that the need to immediately implement this action because the Pacific halibut hook-and-line PSC limit for the second seasonal bycatch mortality allowance has been reached constitutes good cause to waive the requirement to provide prior notice and opportunity for public comment pursuant to the authority set forth at 5 U.S.C. 553(b)(3)(B) and 50 CFR 679.20 (b)(3)(iii)(A), as such procedures would be unnecessary and contrary to the public interest. Similarly, the need to implement these measures in a timely fashion because the Pacific halibut hook-and-line PSC limit for the second seasonal allowance has been reached constitutes good cause to find that the effective date of this action cannot be delayed for 30 days. Accordingly, under 5 U.S.C. 553(d), a delay in the effective date is hereby waived.

This action is required by § 679.21 and is exempt from review under Executive Order 12866.

Authority: 16 U.S.C. 1801 et seq.

Dated: May 10, 2001.
Bruce C. Morehead,
Acting Director, Office of Sustainable Fisheries, National Marine Fisheries Service.

[FR Doc. 01-12365 Filed 5-15-01; 8:45 am]

BILLING CODE 3510-22-S